DEPARTMENT OF DEFENSE

Office of the Secretary

[Transmittal No. 17-51]

Arms Sales Notification

AGENCY: Defense Security Cooperation Agency, Department of Defense.

ACTION: Arms sales notice.

SUMMARY: The Department of Defense is publishing the unclassified text of an arms sales notification.

FOR FURTHER INFORMATION CONTACT: Pamela Young, (703) 697-9107, pamela.a.young14.civ@mail.mil or Kathy Valadez, (703) 697-9217, kathy.a.valadez.civ@mail.mil; DSCA/DSA-RAN.

SUPPLEMENTARY INFORMATION: This 36(b)(1) arms sales notification is published to fulfill the requirements of section 155 of Public Law 104-164 dated July 21, 1996. The following is a copy of a letter to the Speaker of the House of Representatives, Transmittal 17-51 with attached Policy Justification and Sensitivity of Technology.

Dated: December 8, 2017.
Aaron Siegel,
Alternate OSD Federal Register Liaison Officer, Department of Defense.

Transmittal No. 17-51

Notice of Proposed Issuance of Letter of Offer Pursuant to Section 36(b)(1) of the Arms Export Control Act, as Amended

(i) Prospective Purchaser: The Government of Norway

(ii) Total Estimated Value:

Major Defense Equipment * | $150 million
Other | $ 20 million
Total | $170 million

(iii) Description and Quantity or Quantities of Articles or Services under Consideration for Purchase:

Major Defense Equipment (MDE):

Sixty (60) AIM-120 C-7 Advanced Medium Range Air-to-Air Missiles (AMRAAM)

Four (4) AMRAAM Guidance Section Spares

Non-MDE:

Missile containers, weapon system support, support equipment, spare and repair parts, publications and technical documentation, personnel training, training equipment, U.S. Government and contractor engineering, logistics, technical and support services, and other related elements of logistics and program support.

(iv) Military Department: Air Force (X6-D-YAE)

(v) Prior Related Cases, if any: NO-D-YME

(vi) Sales Commission, Fee, etc., Paid, Offered, or Agreed to be Paid: None

(vii) Sensitivity of Technology Contained in the Defense Article or Defense Services Proposed to be Sold: See Attached Annex

(viii) Date Report Delivered to Congress: November 14, 2017

*As defined in Section 47(6) of the Arms Export Control Act.

POLICY JUSTIFICATION

Norway—AIM-120 C-7 Advanced Medium Range Air-to-Air Missile (AMRAAM)

The Government of Norway requested a possible sale of sixty (60) AIM-120 C-7 Advanced Medium Range Air-to-Air Missiles (AMRAAM) and four (4) AMRAAM guidance section spares. Also included are missile containers, weapon system support, support equipment, spare and repair parts, publications and technical documentation, personnel training, training equipment, U.S. Government and contractor engineering, logistics, technical and support services, and other related elements of logistics and program support. The estimated total case value is $170 million.

This proposed sale will support the foreign policy and national security objectives of the United States by improving the security of a NATO ally which continues to be an important force for political stability and economic progress in Europe.

The proposed sale will improve Norway's capabilities for mutual defense, regional security, force modernization, and U.S. and NATO interoperability. This sale will enhance the Royal Norwegian Air Force's ability to defend Norway against future threats and contribute to current and future NATO operations. This is a follow-on buy of additional AIM-120 C-7 missiles. Norway will be able to absorb these additional missiles and support into its armed forces.

The proposed sale of this equipment and support will not alter the basic military balance in the region.

The prime contractor will be Raytheon Missile Systems, Tucson, AZ. There are no known offset agreements proposed in connection with this potential sale.

Implementation of this proposed sale will not require the assignment of any additional U.S. Government personnel or contractor representatives to Norway.

There will be no adverse impact on U.S. defense readiness as a result of this proposed sale.

Transmittal No. 17-51

Notice of Proposed Issuance of Letter of Offer Pursuant to Section 36(b)(1) of the Arms Export Control Act

Annex Item No. vii

(vii) Sensitivity of Technology:

1. AIM-120C Advanced Medium Range Air-to-Air Missile (AMRAAM) is a radar guided missile featuring digital technology and micro-miniature solid-state electronics. AMRAAM capabilities include look-down/shoot-down, multiple launches against multiple targets, resistance to electronic counter measures, and interception of high flying, low flying and maneuvering targets. The AMRAAM is classified CONFIDENTIAL, major components and subsystems range from UNCLASSIFIED to CONFIDENTIAL, and technology data and other documentation are classified up to SECRET.

2. If a technologically advanced adversary obtains knowledge of the specific hardware and software elements, the information could be used to develop countermeasures or equivalent systems that might reduce weapon system effectiveness or be used in the development of a system with similar or advanced capabilities.

3. A determination has been made that Norway can provide substantially the same degree of protection for the sensitive technology being released as the U.S. Government. This proposed sale is necessary to the furtherance of the U.S. foreign policy and national security objectives outlined in the policy justification.

4. All defense articles and services listed in this transmittal are authorized for release and export to the Government of Norway.

[FR Doc. 2017-26882 Filed 12-12-17; 8:45 am]

BILLING CODE 5001-06-P